DEPARTMENT OF HEALTH AND HUMAN SERVICES

National Institutes of Health

Center for Scientific Review and National Institute of Allergy and Infectious Diseases; Amended Notice of Closed Meeting

Notice is hereby given of changes pertaining to the meeting of the Center for Scientific Review Special Emphasis Panel, Fellowship: NIH Medical Scientist Partnership Program (FM1), October 31, 2024, 9:00 a.m. to November 1, 2024, 06:00 p.m., National Institutes of Health, Rockledge II, 6701 Rockledge Drive, Bethesda, MD 20892, which was published in the Federal Register on October 9, 2024, 89 FR 81923, Doc 2024-23354.

The notice of the meeting is being amended to change the name of the committee from Center for Scientific Review Special Emphasis Panel; Fellowship: NIH Medical Scientist Partnership Program (FM1) to National Institute of Allergy and Infectious Diseases Special Emphasis Panel; Fellowship: NIH Medical Scientist Partnership Program (FM1). The notice is also being amended to change the address of the meeting from National Institutes of Health, Rockledge II, 6701 Rockledge Drive, Bethesda, MD 20892 to National Institute of Allergy and Infectious Diseases, National Institutes of Health, 5601 Fishers Lane, Room 3G45, Rockville, MD 20892. The contact information for the meeting has also been updated from Raj K. Krishnaraju, Ph.D. to Frank S. De Silva, Ph.D., Scientific Review Officer, National Institute of Allergy and Infectious Diseases, National Institutes of Health, 5601 Fishers Lane, MSC 9823, Rockville, MD 20892, (240) 669-5023, fdesilva@niaid.nih.gov. The date and time of the meeting remain the same. The meeting is closed to the public.

Dated: October 15, 2024.
Lauren A. Fleck,
Program Analyst, Office of Federal Advisory Committee Policy.

[FR Doc. 2024-24240 Filed 10-18-24; 8:45 am]

BILLING CODE 4140-01-P